DEPARTMENT OF COMMERCE

Foreign-Trade Zones Board

[S-183-2019]

Approval of Subzone Status; Patterson Pump Company; Toccoa, Georgia

On September 17, 2019, the Executive Secretary of the Foreign-Trade Zones (FTZ) Board docketed an application submitted by Georgia Foreign-Trade Zone, Inc., grantee of FTZ 26, requesting subzone status subject to the existing activation limit of FTZ 26, on behalf of Patterson Pump Company, in Toccoa, Georgia.

The application was processed in accordance with the FTZ Act and Regulations, including notice in the Federal Register inviting public comment (84 FR 49717, September 23, 2019). The FTZ staff examiner reviewed the application and determined that it meets the criteria for approval. Pursuant to the authority delegated to the FTZ Board Executive Secretary (15 CFR Sec. 400.36(f)), the application to establish Subzone 26Q was approved on November 5, 2019, subject to the FTZ Act and the Board's regulations, including Section 400.13, and further subject to FTZ 26's 2,000-acre activation limit.

Dated: November 5, 2019.
Andrew McGilvray,
Executive Secretary.

[FR Doc. 2019-24643 Filed 11-12-19; 8:45 am]

BILLING CODE 3510-DS-P